FEDERAL COMMUNICATIONS COMMISSION

Information Collection(s) Being Submitted for Review and Approval to the Office of Management and Budget (OMB)

AGENCY: Federal Communications Commission.

ACTION: Notice; request for comments.

SUMMARY: As part of its continuing effort to reduce paperwork burden and as required by the Paperwork Reduction Act (PRA) of 1995 (44 U.S.C. 3502-3520), the Federal Communications Commission invites the general public and other Federal agencies to take this opportunity to comment on the following information collection(s). Comments are requested concerning: whether the proposed collection of information is necessary for the proper performance of the functions of the Commission, including whether the information shall have practical utility; the accuracy of the Commission's burden estimates; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before February 28, 2013. If you anticipate that you will be submitting PRA comments, but find it difficult to do so within the period of time allowed by this notice, you should advise the FCC contact listed below as soon as possible.

ADDRESSES: Submit your PRA comments to Nicholas A. Fraser, Office of Management and Budget (OMB), via fax at 202-395-5167 or via Internet at Nicholas_A._Fraser@omb.eop.gov and to Judith B. Herman, Federal Communications Commission, via the Internet at Judith-b.herman@fcc.gov. To submit your PRA comments by email send them to: PRA@fcc.gov.

FOR FURTHER INFORMATION CONTACT: Judith B. Herman, Office of Managing Director, FCC, at 202-418-0214.

SUPPLEMENTARY INFORMATION:

OMB Control Number: 3060-0270.

Title: Section 90.443, Content of Station Records.

Form Number: N/A.

Type of Review: Extension of a currently approved collection.

Respondents: Individuals or households, business or other for-profit, not for profit institutions and state, local and tribal government.

Number of Respondents: 65,295 respondents; 65,295 responses.

Estimated Time per Response: .25 hours.

Frequency of Response: Recordkeeping requirements.

Obligation to Respond: Required to obtain or retain benefits. Statutory authority for this information collection is contained in 47 U.S.C. section 309(j) of the Communications Act of 1934, as amended.

Total Annual Burden: 16,324 hours.

Total Annual Cost: N/A.

Privacy Impact Assessment: Yes. Records of the Wireless Radio Services may include information about individuals or households, and the use(s) and disclosure of this information is governed by the requirements of a system of records, FCC/WTB-1, “Wireless Services Licensing Records”.

Nature and Extent of Confidentiality: Respondents may request materials or information submitted to the Commission be withheld from public inspection under 47 CFR 0.459 of the Commission's rules. Information within Wireless Radio Services is maintained in the Commission's system of records notice or “SORN”, FCC/WTB-1, “Wireless Services Records”.

Needs and Uses: The Commission will submit this collection to the OMB for approval of an extension in order to obtain the three year clearance from them. There is no change in the recordkeeping requirement. There is no change in the Commission's previous burden estimates. Each licensee in the private land mobile radio service must comply with the recordkeeping requirements in this section pursuant to 47 CFR 90.443 of the Commission's rules. Specifically, paragraph (b) of this rule section requires that the dates and pertinent details of any maintenance performed on station equipment, and the name and address of the service technician who did the work be entered in the station records. These records will reflect whether or not maintenance of the licensee's equipment has been performed.

The maintenance records may be used by the licensee or Commission field personnel to note any recurring equipment problems or conditions that may lead to degraded equipment performance and/or interference generation. Tower lighting records required to ensure that the licensee is aware of the tower light conditions and proper operation, in order to prevent and/or correct any hazards to air navigation.

Federal Communications Commission.
Marlene H. Dortch,
Secretary.

[FR Doc. 2013-01769 Filed 1-28-13; 8:45 am]

BILLING CODE 6712-01-P